ENVIRONMENTAL PROTECTION AGENCY

40 CFR Part 52

[EPA-R05-OAR-2020-0115; FRL-10020-88-Region 5]

Air Plan Approval; Illinois; Multi-Pollutant Standards Rule, Control of Emissions From Large Combustion Sources

AGENCY: Environmental Protection Agency (EPA).

ACTION: Proposed rule.

SUMMARY: The Environmental Protection Agency (EPA) is proposing to approve a revision to the Illinois State Implementation Plan (SIP) to amend requirements applicable to certain coal-fired electric generating units (EGUs) in the Illinois Administrative Code (IAC), also known as the Multi-Pollutant Standards Rule. On January 23, 2020, the Illinois Environmental Protection Agency (IEPA) submitted a request to amend the provisions of the Multi-Pollutant Standards Rule in the Illinois regional haze SIP. EPA is proposing to approve the revision because it will result in a significant decrease in emissions of NOX and SO2, meets the applicable requirements of the Clean Air Act (CAA), and does not interfere with any applicable requirement concerning attainment and reasonable further progress.

DATES: Comments must be received on or before April 7, 2021.

ADDRESSES: Submit your comments, identified by Docket ID No. EPA-R05-OAR-2020-0115 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What is the background for this action?

On June 24, 2011, IEPA submitted to EPA rules to address the visibility protection requirements of section 169A of the CAA and regional haze, as codified in 40 CFR 51.308. The submission included the provisions contained in 35 IAC Part 225 (Part 225): Section 225.233 Multi-Pollutant Standards (MPS) (hereafter the “MPS Rule”). On July 6, 2012, EPA approved subsections (a), (b), (e), and (g) of Section 225.233 into the Illinois SIP. See 77 FR 39943.

The MPS Rule establishes control requirements and emission standards for oxides of nitrogen (NOX), sulfur dioxide (SO2), and emissions of mercury. The MPS Rule provides the owner of certain EGUs an alternative means to demonstrate compliance with the emission standards in 35 IAC 225.230(a).¹

¹ 35 IAC 225.230 contains Illinois' mercury emission standards for EGUs and is not part of the federally approved SIP.

The owner of one or more EGUs are identified or referred to as a “MPS Group” in the MPS Rule. There are currently two MPS groups in Illinois: The Dynegy MPS Group and the Ameren MPS Group. The Dynegy MPS Group included EGUs at the following facilities: Baldwin Power Station, Havana Power Station, Hennepin Power Station, Vermillion Power Station, and Wood River Power Station. The Ameren MPS Group included EGUs at the following facilities: The Coffeen Power Station, Duck Creek Power Station, E.D. Edwards Power Station, Joppa Power Station, Newton Power Station, Hutsonville Power Station, and the Meredosia Power Station.

MPS Rule NOX and SO2 Emission Rates

The Dynegy MPS Group is required to comply with NOX and SO2 emission standards for the EGUs in section 225.233(e)(1) and (2). The MPS Rule requires the EGUs in the Dynegy MPS Group to meet a fleet-wide annual and ozone season NOX emission rate of 0.10 pound/million British thermal units (lb/mmBtu), based on the greater stringency of a limit calculated from those units' base annual and ozone season NOX rates beginning in 2012 and continuing in each calendar year thereafter. The MPS rule requires the EGUs in the Dynegy MPS Group to meet a fleet-wide annual SO2 emission rate of 0.25 lb/mmBtu or a rate equivalent to 35 percent of the base rate of SO2 emissions, whichever was more stringent, beginning in the 2015 calendar year. The Dynegy MPS Group is currently required to meet a fleet-wide annual SO2 emission rate of 0.19 lb/mmBtu, which was calculated as 35 percent of the units' base rate of SO2 emissions.

The Ameren MPS Group is required to comply with NOX and SO2 emission standards for the EGUs in section 225.233(e)(3). The MPS Rule requires the EGUs in the Ameren MPS Group to meet a fleet-wide annual NOX emission rate of 0.14 lb/mmBtu and ozone season NOX emission of 0.11 lb/mmBtu beginning in 2010. These units were then required to meet an annual NOX emission rate of 0.11 lb/mmBtu beginning in 2012 and continuing in each calendar year thereafter. Beginning in the calendar year 2017, the Ameren MPS Group was required to meet a fleet-wide annual SO2 emission rate of 0.23 lb/mmBtu.

MPS Group Changes Due to Change of Ownership

In 2013, the operating EGUs in the Ameren MPS Group were purchased by Illinois Power Holdings, LLC (IPH), a wholly owned, indirect subsidiary of Dynegy, Inc. (Dynegy). Dynegy purchased the EGUs at the Coffeen, Duck Creek, E.D. Edwards, Joppa, and Newton facilities. The EGUs at the Meredosia and Hutsonville facilities were transferred to AmerenEnergy Medina Valley Cogen LLC.

The following EGUs were permanently retired with this purchase: Vermillion Units 1 and 2; Wood River Units 4 and 5; E.D. Edwards Unit 1; Newton Unit 2; Hutsonville Units 5 and 6; and Meredosia Units 1, 2, 3, 4, and 5. Therefore, the remaining permitted and operating EGUs owned by Dynegy include: Baldwin Units 1, 2, and 3; Havana, Unit 9; Hennepin Units 1 and 2; Coffeen Units 1 and 2; Duck Creek Unit 1; E.D. Edwards Units 2 and 3; Joppa Units l, 2, 3, 4, 5, and 6; and Newton Unit l.

On January 23, 2020, IEPA submitted amendments to the MPS Rule as a revision to the Illinois regional haze SIP. These amendments will: (1) Combine the two existing MPS Groups of EGUs into one MPS Group; (2) require all subject EGUs as a group to comply with mass-based emissions limitations for annual NOX and SO2 emission limits, and NOX emission limits for the ozone season; (3) add a requirement for the EGUs at the Joppa facility to comply with a combined annual SO2 mass-based emissions limit; (4) require certain facilities that operate EGUs equipped with selective catalytic reduction (SCR) control to comply with a specific rate-based seasonal NOX emissions limit and operational requirements; and (5) add requirements governing the transfer of EGUs from one group to a different owner or operator, shutdown of EGUs, recordkeeping and reporting.

II. What are the elements of the State's submittal?

The amendments to the MPS Rule are as follows:

Subsection 225.233(a): General

Subsection 225.233(a) sets forth the purpose and applicability of the MPS Rule to the owner of coal-fired EGUs. IEPA amended this subsection to establish one MPS Group that includes all of the EGUs owned and in operation by Dynegy. Thus, IEPA added subsection 225.233(a)(4)(A), which provides that, on and after January 1, 2019, the following EGUs shall be merged into a new MPS Group: Baldwin Units 1, 2, and 3; Coffeen Units 1 and 2; Duck Creek Units 1; E.D. Edwards Units 2 and 3; Havana Unit 9; Hennepin Units 1 and 2; Joppa Units 1, 2, 3, 4, 5, and 6; and Newton Unit 1. The MPS Rule further stipulates, “If one or more of the listed EGUs are transferred to a different owner, such EGU or EGUs will become a separate MPS Group on and after the date of transfer. For purposes of this section, `transfer' means sale, conveyance, transfer, or other change in ownership of an EGU.” Also, IEPA added subsection 225.233(a)(4)(B) which states, “No other EGUs except for those listed in subsection 225.233(a)(4)(A) are subject to the requirements of this Section.”

Subsection 225.233(e): Emission Standards for NOX and SO2

Subsection 225.233(e) contains the NOX and SO2 emissions standards applicable to the EGUs in each MPS Group. IEPA amended subsection 225.233(e) to include requirements that replace the existing annual emission rate-based NOX and SO2 emission limits, and NOX seasonal emission limits with mass-based emissions limits. Below are the revised NOX and SO2 emission limits.

MPS NOX Standards

In subsection 225.233(e)(1)(C), IEPA amended the MPS Rule by adding the requirement that, “beginning in the calendar year 2019 and continuing in each calendar year thereafter, the owner and the operator of the EGUs in an MPS Group must not cause or allow to be discharged into the atmosphere combined annual NOX emissions in excess of 19,000 tons from all EGUs”. In subsection 225.233(e)(1)(D), IEPA amended the MPS Rule by adding the requirement that, “beginning in the calendar year 2019 and continuing in each calendar year thereafter, from May 1 to September 30, the owner and the operator of the EGUs in an MPS Group must not cause or allow to be discharged into the atmosphere combined NOX emissions in excess of 11,500 tons from all EGUs.”

In subsection 225.233(e)(1)(E), IEPA amended the MPS Rule by adding a specific requirement for all existing EGUs currently equipped with selective catalytic reduction (”SCR”) control system to control NOX emissions. Specifically, subsection 225.233(e)(1)(E) states that, “on or after January 1, 2019, the owner and operator of any of Baldwin Units 1 and 2, Coffeen Units 1 and 2, Duck Creek Unit 1, E.D. Edwards Unit 3, and Havana Unit 9 are required to comply with a combined NOX average emission rate of no more than 0.10 lb/mmBtu from May 1 to September 30.” Additionally, subsection 225.233(e)(1)(E), requires that the owner and operator of the above-mentioned EGUs must operate each SCR control system in accord with limitations, manufacturers' specifications, and good engineering and maintenance practices.

MPS SO2 Standards

In subsection 225.233(e)(2)(C), IEPA amended MPS Rule by adding a requirement that, “beginning in the calendar year 2019 and continuing in each calendar year thereafter, the owner and operator of the EGUs in an MPS Group must not cause or allow to be discharged into the atmosphere combined annual SO2 emissions in excess of 34,500 tons from all EGUs.”

In subsection 225.233(e)(2)(D), IEPA amended MPS Rule by adding a requirement which applies only to EGUs at the Joppa facility. The rule stipulates that, “beginning in calendar year 2019, continuing in each year thereafter, the owner or operator of Joppa Units 1, 2, 3, 4, 5, and 6 must not cause or allow to be discharged into the atmosphere combined annual SO2 emissions in excess of 19,860 tons.”

Finally, IEPA revised MPS Rule by deleting subsection 225.233(e)(3) in its entirety because it contains the provisions relating to the EGUs formerly belonging to the Ameren MPS Group. The provisions for the Ameren Group are being subsumed/incorporated into the applicable requirements for the new MPS Group identified in subsection 225.233(a).

Subsection 225.233(f): Transfer of EGUs in an MPS Group

IEPA amended the MPS Rule by adding subsection 225.233(f) to include requirements governing the transfer of EGUs in an MPS Group. Subsection 225.233(f)(1) adds requirements for transferring of EGUs in an MPS Group to a different owner and from the owner acquiring the EGUs; subsection 225.233(f)(2) adds requirements for allocating the amounts of emissions that would reduce the mass emission limit for annual NOX and SO2, ozone season NOX values corresponding to the EGU or EGUs if they are transferred; and subsection 225.233(f)(3) adds notification of transfer requirements for both the transferring and acquiring owners.

In the case of a transfer, for the MPS Group from which EGUs are transferred, the combined emissions limitations for the MPS Group set forth in subsections 225.233(e)(l) and (e)(2), as applicable, must be adjusted by subtracting from those limitations the applicable allocation amounts set forth in Columns A (Annual NOX, in tons per year (TPY)), B (Seasonal NOX, in tons), and C (Annual SO2, in TPY), in subsection 225.233(f)(2) that are attributable to the transferred EGUs.

For a new MPS Group consisting of the acquired EGUs, the owner and operator of the EGUs in an MPS Group must not cause or allow to be discharged into the atmosphere combined annual NOX emissions, combined seasonal NOX emissions, and combined annual SO2 emissions in excess of the applicable annual NOX, seasonal NOX, and annual SO2 limitation from all EGUs. The applicable annual NOX, seasonal NOX, and annual SO2 limitations shall be the sum of the allocation amounts attributable to all EGUs in the MPS Group set forth in Columns A (Annual NOX, in TPY), B (Seasonal NOX, in tons), and C (Annual SO2, in TPY), respectively, of subsection 225.233(f)(2).

Subsection 225.233(g): Permanent Shutdown of EGUs in an MPS Group

IEPA amended the MPS Rule to include requirements to address the permanent shutdown of EGUs in an MPS Group in subsection 225.233(g). Subsection 225.233(g) adds requirements for permanent shutdown of one or more EGUs in an MPS Group no longer subject to the MPS Rule. In the case of a permanent shutdown of one or more EGUs, the combined emissions limitations for the MPS Group in subsections 225.233(e)(1) and (e)(2) must be adjusted by subtracting from those limitations the applicable allocation amounts set forth in set forth in Columns A (Annual NOX, in TPY), B (Seasonal NOX, in tons), and C (Annual SO2, in TPY), respectively, of subsection 225.233(g)(2) to the shutdown EGU or EGUs. The owner and operator must comply with the adjusted emission limitations beginning with the compliance period or periods in which the shutdown occurs. The MPS Rule makes clear that it regulates the emissions of a permanently shut down unit during the compliance period or periods in which the permanent shutdown occurs, and the procedures that the owner must comply with to determine compliance with the adjusted emission limitations, and notification requirements.

Subsection 225.233(h): Temporary Shutdown of EGUs in an MPS Group

IEPA amended the MPS Rule to include requirements to address the temporary shutdown of one or more EGUs in an MPS Group in subsection 225.233(h). Subsection 225.233(h) contains the requirements for temporary shutdown of one or more EGUs in an MPS Group that do not produce electricity for sale during an entire compliance period. Similar to the requirements for permanent shutdown, the combined emissions limitations for the MPS Group in subsections 225.233(e)(1) and (e)(2) must be adjusted by subtracting from those limitations the applicable allocation amounts set forth in set forth in Columns A (Annual NOX, in TPY), B (Seasonal NOX,, in tons), and C (Annual SO2, in TPY), respectively, of subsection 225.233(h)(2) to the shutdown EGU or EGUs. The rule describes what a “temporary shutdown” means, and the procedures that the owner must follow to determine compliance with the adjusted emission limitations, and notification requirements.

Subsection 225.233(j): Recordkeeping

IEPA amended the MPS Rule to include a requirement to address recordkeeping in subsection 225.233(j). Subsection 225.233(j) adds the requirement that, beginning on January 1, 2019, and continuing each year thereafter, the owner and operator of the EGUs in an MPS Group must keep and maintain all records necessary to demonstrate compliance with Section 225.233. Also, the rule specifies that the records to be maintained shall include, but not be limited to, all emissions monitoring information gathered in accordance with 40 CFR 75, and copies of all reports and compliance certifications required under subsection 225.233(k).

Subsection 225.233(k): Reporting

IEPA amended the MPS Rule to include a requirement to address reporting to demonstrate compliance with the rule in subsection 225.233(k). Subsection 225.233(k), adds a requirement that beginning in year 2020, and continuing each year thereafter, the owner and operator of the EGUs in an MPS Group to submit reports to IEPA demonstrating compliance with MPS NOX and SO2 emission standards, transfer of EGUs, and the permanent and temporary shutdown of EGUs.

Subsection 225.233(l): EGU Shutdown

IEPA amended the MPS Rule by adding subsection 225.233(l) to include requirements to address the appropriate steps to permanently shutdown EGUs. Subsection 225.233(l) adds a provision that outlines for the owner or operator of the EGUs specified in subsection 225.233(a)(4)(A) the necessary procedures for documentation and notification to be given to the regional transmission operator, Midcontinent Independent System Operator (MISO), in order to obtain MISO approval to permanently cease operating one or more EGUs from the MPS Group with an aggregate capacity of at least 2,000 megawatts generation.

III. What is EPA's analysis of the State's submittal?

EPA is proposing to approve the revisions discussed above because the revisions meet all applicable requirements of the CAA, consistent with section 110(k)(3) of the CAA and the regional haze rule. Furthermore, the revisions do not interfere with any applicable requirement concerning attainment and reasonable further progress or any other applicable CAA requirement, consistent with section 110(l) of the CAA.

A. The Revisions Do Not Interfere With the Regional Haze Rules Approved in the Illinois SIP

The proposed SIP revision does not interfere with the regional haze rules approved in the Illinois SIP. Illinois relied on emission reductions of NOX and SO2 already achieved through implementation of the MPS Rule in its SIP submittal to EPA for the regional haze SIP rules. Illinois has shown that the proposed SIP revisions will not result in an increase of emissions of NOX or SO2.

EPA has analyzed the historical emissions data from the subject facilities and assessed the impacts of the proposed amendments to the MPS Rule. The proposed amendments replace fleet-wide rate-based standards in the current MPS Rule with fleet-wide mass emission limits. This change in the method of measurement of emissions for compliance will result in lower allowable emissions from the operating EGUs that comprise the proposed combined MPS Group. The allowable emissions under the proposed mass-based emissions limits are being reduced to a level within the range of the actual emissions from the affected EGUs in the combined MPS Group during the years that the state implemented the most stringent rate-based emission limits in the current SIP.

Under the current MPS Rule the maximum allowable emissions of NOX and SO2 are not specified, but these allowable emissions have been calculated using the rated capacity of each of the units that will operate in the proposed combined MPS Group and the emission rate that applies to each such unit currently under the MPS Rule. The proposed amendments would limit the combined MPS Group to 34,500 tons of SO2 annually rather than the calculated 66,354 tons of allowable annual emissions under the current MPS Rule. The proposed amendments would also limit the combined MPS Group to 19,000 tons of NOX annually rather than the calculated 32,841 tons of allowable annual emissions under the current MPS Rule. Finally, the proposed amendments would limit the combined MPS Group to 11,500 tons of NOX during the ozone season rather than the calculated 13,766 tons of allowable annual emissions under the current MPS Rule. Note that these comparisons only consider the EGUs that will be in the new proposed MPS Group, rather than including all units that were part of both existing MPS Groups but have subsequently ceased operation.

In addition, EPA finds by comparison that the maximum allowable NOX and SO2 emissions from the EGUs for the proposed combined new MPS Group under the proposed mass emission limits will be less than the projected emissions as approved in the Illinois SIP for regional haze. The total of projected emissions set forth in the Illinois SIP for regional haze from all EGUs included in both current MPS Groups is 55,953 tons of SO2 and 27,951 tons of NOX annually. These differences reflect a total of 21,453 tons of SO2 emissions and 8,951 tons of NOX emissions less than projected in the Illinois SIP for regional haze. As such, the proposed mass-based emission limits for the combined new MPS Group are sufficient to limit total emissions of NOX and SO2 pollutants to less than the levels that were determined to be necessary to achieve the visibility improvement goals discussed in the Regional Haze SIP submittals, which satisfies the requirements under section 110(l) of the CAA.

Last, EPA finds that the proposed amendments strengthen the MPS Rule as a result of including additional requirements to ensure that the combined new MPS Group of EGUs do not exceed the annual NOX and SO2 emissions limits, and the ozone season NOX emission limits.

B. The Revisions Do Not Interfere With Any Applicable CAA Requirement Under Section 110(l) of the CAA

Under section 110(l) of the CAA, EPA shall not approve a SIP revision if it would interfere with any applicable requirement concerning attainment and reasonable further progress (as defined in section 171 of the CAA) or any other applicable requirement of the CAA. The proposed SIP revisions would not interfere with any applicable CAA requirements based on technical analysis submitted by IEPA.

As discussed above, IEPA has shown that the revision will result in a reduction of NOX and SO2 emissions, which are the pollutants of concern. Furthermore, the emission standards under the amended MPS Rule are more stringent, replacing the rate-based annual emission limits for NOX and SO2, and NOX for the ozone season, with mass-based emission limits for determining compliance.

Therefore, the proposed revisions are approvable under section 110(l) because: (1) The proposed changes to the SIP will make the emissions limits for NOX and SO2 more stringent; (2) the proposed changes will result in a significant decrease in emissions of NOX, and SO2; and (3) the changes are consistent with Illinois' long-term strategy for making reasonable progress toward meeting the visibility goals of section 169A of the CAA contained in the state's regional haze rules.

IV. What action is EPA taking?

EPA is proposing to approve a revision to the Illinois SIP to amend all the provisions of MPS Rule, Section 225.233, except for subsections 225.233(c), (d), and (i). IEPA submitted the proposed revisions to the MPS Rule on January 23, 2020.

V. Incorporation by Reference

In this rule, EPA is proposing to include in a final EPA rule regulatory text that includes incorporation by reference. In accordance with requirements of 1 CFR 51.5, EPA is proposing to incorporate by reference revisions to Title 35 of Illinois Administrative Code Rule Part 225—Control of Emissions from Large Combustion Sources, Multi-Pollutant Standards—Section 225.233, except for subsections 225.233(c), (d), and (i), effective August 23, 2019. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Particulate matter, Sulfur dioxide.

Dated: March 1, 2021.
Cheryl Newton,
Acting Regional Administrator, Region 5.

[FR Doc. 2021-04749 Filed 3-5-21; 8:45 am]

BILLING CODE 6560-50-P